NUCLEAR REGULATORY COMMISSION

[Docket No. 40-9092; NRC-2013-0164]

Reno Creek In Situ Uranium Recovery Project in Campbell County, Wyoming

AGENCY: Nuclear Regulatory Commission.

ACTION: Final supplemental environmental impact statement; issuance.

SUMMARY: The U.S. Nuclear Regulatory Commission (NRC) is issuing the Final Supplemental Environmental Impact Statement (SEIS) (NUREG-1910, Supplement 6) for the Reno Creek In Situ Uranium Recovery (ISR) Project. By letter dated October 3, 2012, AUC LLC submitted an application to the NRC for a new source materials license for the proposed Reno Creek ISR Project proposed to be located in Campbell County, Wyoming. The SEIS is Supplement 6 to NUREG-1910, “Generic Environmental Impact Statement for In-Situ Leach Uranium Milling Facilities.”

DATES: NUREG-1910, Supplement 6, is available December 16, 2016.

ADDRESSES: Please refer to Docket ID NRC-2013-0164 when contacting the NRC about the availability of information regarding this document. You may access publicly-available information related to this document using any of the following methods:

• Federal Rulemaking Web site: Go to http://www.regulations.gov and search for Docket ID NRC-2013-0164. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may access publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The Final SEIS (NUREG-1910, Supplement 6) is available in ADAMS under Accession No. ML16342A973.

• NRC's PDR: You may examine and purchase copies of public documents at the NRC's PDR, Room O1-F21, One White Flint North, 11555 Rockville Pike, Rockville, Maryland 20852.

FOR FURTHER INFORMATION CONTACT: Jill Caverly, Office of Nuclear Material Safety and Safeguards, U.S. Nuclear Regulatory Commission, Washington, DC 20555-0001; telephone: 301-415-7674; email: Jill.Caverly@nrc.gov.

SUPPLEMENTARY INFORMATION:

Under the NRC's environmental protection regulations in part 51 of title 10 of the Code of Federal Regulations (10 CFR), which implement the National Environmental Policy Act of 1969 (NEPA), preparation of an Environmental Impact Statement (EIS) or supplement to an EIS (SEIS) is required for issuance of a license to possess and use source material for uranium milling (see 10 CFR 51.20(b)(8)).

In May 2009, the NRC staff issued NUREG-1910, “Generic Environmental Impact Statement for In-Situ Leach Uranium Milling Facilities” (herein referred to as the GEIS). In the GEIS, the NRC assessed the potential environmental impacts from construction, operation, aquifer restoration, and decommissioning of an in situ leach uranium milling facility (also known as an ISR facility) located in four specific geographic regions of the western United States. The proposed Reno Creek ISR Project is located within the Wyoming East Uranium Milling Region identified in the GEIS. The final SEIS supplements the GEIS and incorporates by reference relevant portions from the GEIS, and uses site-specific information from AUC LLC's license application and independent sources to fulfill the requirements in 10 CFR 51.20(b)(8).

The final SEIS was prepared in response to an application submitted by AUC LLC (the applicant) by letter dated October 3, 2012. The applicant proposes the construction, operation, aquifer restoration, and decommissioning of an in situ recovery facility to recover uranium.

The final SEIS was prepared by the NRC and its contractor, the Center for Nuclear Waste Regulatory Analyses, in compliance with NEPA (as amended, and the NRC's regulations for implementing NEPA (10 CFR part 51).

The proposed Reno Creek ISR Project will be located in Campbell County between the communities of Wright, Edgerton, and Gillette and would encompass approximately 2,451 hectares (6,057 acres).

The final SEIS is being issued as part of the NRC's process to decide whether to issue a license to AUC LLC pursuant to 10 CFR part 40. In this final SEIS, the NRC staff has assessed the potential environmental impacts from the construction, operation, aquifer restoration, and decommissioning of the proposed Reno Creek ISR Project. The NRC staff assessed the impacts of the proposed action and its alternative on land use; historical and cultural resources; visual and scenic resources; climatology, meteorology and air quality; geology, minerals, and soils; water resources; ecological resources; socioeconomics; environmental justice; noise; traffic and transportation; public and occupational health and safety; and waste management. Additionally, the final SEIS analyzes and compares the benefits and costs of the proposed action. In preparing this final SEIS, the NRC staff also considered, evaluated, and addressed the public comments received on the draft SEIS published on July 7, 2016 (81 FR 44333). Appendix D of final SEIS captures the public's comments and the NRCs responses.

In doing so, the NRC staff evaluated site-specific data and information from the Reno Creek ISR Project to determine if AUC LLC's proposed activities and the site characteristics were consistent with those evaluated in the GEIS. The NRC then determined which relevant sections of, and impact conclusions in, the GEIS could be incorporated by reference. The NRC staff also determined if additional data or analysis was needed to assess the potential environmental impacts for a specific environmental resource area. The NRC documented its assessments and conclusions in the final SEIS.

In addition to the action proposed by AUC LLC, the NRC staff addressed the no-action alternative which serves as a baseline for comparison of the potential environmental impacts of the proposed action.

After weighing the impacts of the proposed action and comparing the alternative, the NRC staff, in accordance with 10 CFR 51.71(f), sets forth its recommendation regarding the proposed action. Unless safety issues mandate otherwise, the NRC staff recommends that the proposed action be approved (i.e., the NRC should issue a source material license for the proposed Reno Creek ISR Project).

The final SEIS for the proposed Reno Creek ISR Project may be accessed on the internet at http://www.nrc.gov/reading-rm/doc-collections/nuregs/staff/ by selecting “NUREG-1910” and then “Supplement 6,” or on the NRC's Reno Creek ISR Project Web page at http://www.nrc.gov/materials/uranium-recovery/license-apps/reno-creek.html. Additionally, a copy of the final SEIS will be available at the following public libraries: Campbell County Library, 2101 S 4-J Road, Gillette, Wyoming 82718; and Campbell County Library, Wright Branch, 105 Wright Boulevard, Wright, Wyoming 82732.

Dated at Rockville, Maryland, this 29th day of December, 2016.
For the U.S. Nuclear Regulatory Commission.
Craig G. Erlanger,
Director, Division of Fuel Cycle Safety, Safeguards, and Environmental Review, Office of Nuclear Material Safety and Safeguards.

[FR Doc. 2017-00171 Filed 1-6-17; 8:45 am]

BILLING CODE 7590-01-P